DEPARTMENT OF COMMERCE

International Trade Administration

[A-423-812]

Certain Carbon and Alloy Steel Cut-To-Length Plate From Belgium: Final Results of Antidumping Duty Administrative Review and Final Determination of No Shipments; 2019-2020

AGENCY: Enforcement and Compliance, International Trade Administration, Department of Commerce.

SUMMARY: The Department of Commerce (Commerce) determines that the producers and/or exporters subject to this administrative review made sales of subject merchandise at less than normal value during the period of review (POR), May 1, 2019, through April 30, 2020. Additionally, Commerce determines that two companies for which we initiated a review had no shipments during the POR.

DATES: Applicable February 8, 2022.

FOR FURTHER INFORMATION CONTACT: Alex Wood or Steven Seifert, AD/CVD Operations, Office II, Enforcement and Compliance, International Trade Administration, U.S. Department of Commerce, 1401 Constitution Avenue NW, Washington, DC 20230; telephone: (202) 482-1959 and (202) 482-3350, respectively.

SUPPLEMENTARY INFORMATION:

Background

This review covers 22 producers and/or exporters of the subject merchandise. Commerce selected two companies, Industeel Belgium S.A. (Industeel) and NLMK Clabecq S.A./NLMK Plate Sales S.A./NLMK Sales Europe S.A./NLMK Manage Steel Center S.A./NLMK La Louviere S.A. (collectively, NLMK Belgium), for individual examination. The producers and/or exporters not selected for individual examination are listed in the “Final Results of the Review” section of this notice.

On August 6, 2021, Commerce published the Preliminary Results.¹ In September 2021, Nucor Corporation (the petitioner), AG der Dillinger Huttenwerke (Dillinger), Industeel, and NLMK Belgium submitted case and rebuttal briefs.² For a description of the events that occurred since the Preliminary Results, see the Issues and Decision Memorandum.³ On November 30, 2021, we extended the deadline for the final results by 60 days, until February 2, 2022.⁴

¹ See Certain Carbon and Alloy Steel Cut-to-Length Plate from Belgium: Preliminary Results of Antidumping Duty Administrative Review and Preliminary Determination of No Shipments; 2019-2020, 86 FR 43166 (August 6, 2021) (Preliminary Results).

² See Petitioner's Letter, “Nucor's Case Brief and Request for a Hearing,” dated September 7, 2021; Dillinger's Letter, “Case Brief,” dated September 7, 2021; NLMK Belgium's Letter, “Case Brief,” dated September 7, 2021; Industeel's Letter, “Industeel's Rebuttal Brief,” dated September 17, 2021; and NLMK Belgium's Letter, “Rebuttal Brief,” dated September 17, 2021.

³ See Memorandum, “Issues and Decision Memorandum for the Final Results of the 2018-2019 Administrative Review of the Antidumping Duty Order on Certain Carbon and Alloy Steel Cut-To-Length Plate from Belgium,” dated concurrently with, and hereby adopted by, this notice (Issues and Decision Memorandum).

⁴ See Memorandum, “Extension of Deadline for Final Results of 2019-2020 Antidumping Duty Administrative Review,” dated November 30, 2021.

Commerce conducted this administrative review in accordance with section 751 of the Tariff Act of 1930, as amended (the Act).

Scope of the Order

The products covered by the order are certain carbon and alloy steel hot-rolled or forged flat plate products not in coils, whether or not painted, varnished, or coated with plastics or other nonmetallic substances from Belgium. Products subject to the order are currently classified in the Harmonized Tariff Schedule on the United States (HTSUS) under item numbers: 7208.40.3030, 7208.40.3060, 7208.51.0030, 7208.51.0045, 7208.51.0060, 7208.52.0000, 7211.13.0000, 7211.14.0030, 7211.14.0045, 7225.40.1110, 7225.40.1180, 7225.40.3005, 7225.40.3050, 7226.20.0000, and 7226.91.5000. Although the HTSUS subheadings are provided for convenience and customs purposes, the written description of the merchandise subject to this scope is dispositive.⁵

⁵ For a full description of the scope of the order, see Issues and Decision Memorandum.

Analysis of Comments Received

All issues raised in the case and rebuttal briefs are listed in the appendix to this notice and addressed in the Issues and Decision Memorandum.⁶ Interested parties can find a complete discussion of these issues and the corresponding recommendations in this public memorandum, which is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

⁶ Id.

Determination of No Shipments

As noted in the Preliminary Results, we received no-shipment claims from Dillinger and Industeel France S.A.S. (Industeel France). In the Preliminary Results, we preliminarily determined that Dillinger and Industeel France had no reviewable transactions during the POR. Therefore, because the record indicates that these companies did not export subject merchandise to the United States during the POR, we continue to find that Dillinger and Industeel France had no reviewable transactions during the POR. Accordingly, consistent with Commerce's practice, we intend to instruct U.S. Customs and Border Protection (CBP) to liquidate any existing entries of merchandise produced by Dillinger or Industeel France, but exported by other parties, at the rate for the intermediate reseller, if available, or at the all-others rate.⁷

⁷ See, e.g., Magnesium Metal from the Russian Federation: Preliminary Results of Antidumping Duty Administrative Review, 75 FR 26922, 26923 (May 13, 2010), unchanged in Magnesium Metal from the Russian Federation: Final Results of Antidumping Duty Administrative Review, 75 FR 56989 (September 17, 2010).

Changes Since the Preliminary Results

Based on a review of the record and comments received from interested parties regarding our Preliminary Results, we made certain changes to the preliminary weighted-average margin calculations for NLMK Belgium and for those companies not selected for individual review.⁸

⁸ See accompanying Issues and Decision Memorandum.

Final Results of the Review

We are assigning the following weighted-average dumping margins to the firms listed below for the period May 1, 2019, through April 30, 2020:

Producers/exporters | Weighted- average dumping margin (percent)
Industeel Belgium S.A | 0.51
NLMK Clabecq S.A./NLMK Plate Sales S.A./NLMK Sales Europe S.A./NLMK Manage Steel Center S.A./NLMK La Louviere S.A | 5.76
C.A. Picard GmbH | 3.14
Doerrenberg Edelstahl GmbH | 3.14
Edgen Murray | 3.14
EEW Steel Trading LLC | 3.14
Fike Europe B.A | 3.14
Macsteel International | 3.14
NLMK Dansteel A.S | 3.14
NLMK Verona SpA | 3.14
NobelClad Europe GmbH & Co. KG | 3.14
RP Technik GmbH Profilsysteme | 3.14
Salzgitter Mannesmann International GmbH | 3.14
Stahlo Stahl Service GmbH & Co. KG | 3.14
Stemcor USA | 3.14
Thyssenkrupp Steel Europe | 3.14
TWF Treuhandgesellschaft Werbefilm mbH | 3.14
Tranter Service Centers | 3.14
Válcovny Trub Chomutov A.S | 3.14
voestalpine Grobblech GmbH | 3.14

Rate for Non-Examined Companies

The Act and Commerce's regulations do not address the establishment of a weighted-average dumping margin to be applied to companies not selected for individual examination when Commerce limits its examination in an administrative review pursuant to section 777A(c)(2) of the Act. Generally, Commerce looks to section 735(c)(5) of the Act, which provides instructions for calculating the all-others rate in a less-than-fair-value (LTFV) investigation, for guidance when calculating the weighted-average dumping margin for companies which were not selected for individual examination in an administrative review. Under section 735(c)(5)(A) of the Act, the all-others rate is normally an amount equal to the weighted average of the estimated weighted-average dumping margins established for exporters and producers individually investigated, excluding rates that are zero, de minimis (i.e., less than 0.5 percent), or determined entirely on the basis of facts available.

Consistent with section 735(c)(5)(A) of the Act, we determined the weighted-average dumping margin for each of the non-selected companies by using the weighted-average dumping margins calculated for Industeel France and NLMK Belgium in this administrative review.

Disclosure

We intend to disclose the calculations performed within five days of the date of publication of this notice, in accordance with 19 CFR 351.224(b).

Assessment Rates

Pursuant to section 751(a)(2)(C) of the Act, and 19 CFR 351.212(b)(1), Commerce has determined, and CBP shall assess, antidumping duties on all appropriate entries of subject merchandise in accordance with the final results of this review.

Pursuant to 19 CFR 351.212(b)(1), we calculated importer-specific ad valorem duty assessment rates based on the ratio of the total amount of dumping calculated for the examined sales to the total entered value of the sales. Where either the respondent's weighted-average dumping margin is zero or de minimis, within the meaning of 19 CFR 351.106(c)(1), or an importer-specific rate is zero or de minimis, we will instruct CBP to liquidate the appropriate entries without regard to antidumping duties.

For the companies which were not selected for individual review, we will assign an assessment rate based on the simple average of the cash deposit rates calculated for Industeel and NLMK Belgium. The final results of this review shall be the basis for the assessment of antidumping duties on entries of merchandise covered by the final results of this review and for future deposits of estimated duties, where applicable.⁹

⁹ See section 751(a)(2)(C) of the Act.

Commerce's “automatic assessment” will apply to entries of subject merchandise during the POR produced by companies included in these final results of review for which the reviewed companies did not know that the merchandise they sold to the intermediary (e.g., a reseller, trading company, or exporter) was destined for the United States. In such instances, we will instruct CBP to liquidate unreviewed entries at the all-others rate if there is no rate for the intermediate company(ies) involved in the transaction. As indicated above, for Dillinger and Industeel France, we will instruct CBP to liquidate any existing entries of merchandise produced by Dillinger or Industeel France, but exported by other parties, at the all-others rate if there is no rate for the intermediate company(ies) involved in the transaction.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) The cash deposit rate for each specific company listed above will be that established in the final results of this review, except if the rate is less than 0.50 percent and, therefore, de minimis within the meaning of 19 CFR 351.106(c)(1), in which case the cash deposit rate will be zero; (2) for previously investigated companies not participating in this review, the cash deposit will continue to be the company-specific rate published for the most recently completed segment of this proceeding; (3) if the exporter is not a firm covered in this review, or the original LTFV investigation, but the manufacturer is, then the cash deposit rate will be the rate established for the most recent segment for the manufacturer of the merchandise; and (4) the cash deposit rate for all other manufacturers or exporters will continue to be 5.40 percent, the all-others rate established in the LTFV investigation.¹⁰ These deposit requirements, when imposed, shall remain in effect until further notice.

¹⁰ See Certain Carbon and Alloy Steel Cut-To-Length Plate from Austria, Belgium, France, the Federal Republic of Germany, Italy, Japan, the Republic of Korea, and Taiwan: Amended Final Affirmative Antidumping Determinations for France, the Federal Republic of Germany, the Republic of Korea and Taiwan, and Antidumping Duty Orders, 82 FR 24096, 24098 (May 25, 2017).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding Administrative Protective Order

This notice serves as the only reminder to parties subject to administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

This notice is being issued and published in accordance with sections 751(a)(1) and 777(i) of the Act, and 19 CFR 351.213.

Dated: February 2, 2022.
Lisa W. Wang,
Assistant Secretary for Enforcement and Compliance.

Appendix—List of Topics Discussed in the Issues and Decision Memorandum

I. Summary

II. Background

III. Scope of the Order

IV. Changes Since the Preliminary Results

V. Discussion of Issues

Comment Pertaining to Dillinger

Comment 1: Recission for AG der Dillinger Hüttenwerke

Comments Pertaining to Industeel

Comment 2: Application of Adverse Facts Available to Home Market Inland Freight

Comment 3: Major Input Rule for Scrap

Comment 4: Adjustment to General and Administrative Expense Ratio

Comments Pertaining to NLMK Belgium

Comment 5: Exclusion of U.S. Sales Matched to the Constructed Value

Comment 6: Application of Adverse Facts Available to U.S. Inland Freight and Warehousing Expenses

Comment 7: Constructed Export Price Offset

Comment 8: Adjustment to U.S. Indirect Selling Expense Ratio

Comment 9: Adjustment to General and Administrative Expense Ratio

VI. Recommendation

[FR Doc. 2022-02636 Filed 2-7-22; 8:45 am]

BILLING CODE 3510-DS-P